COMMISSION ON CIVIL RIGHTS

Sunshine Act Meeting Notice

AGENCY: United States Commission on Civil Rights.

ACTION: Notice of Commission Telephonic Business Meeting.

DATES: Thursday, June 29, 2017, at 12:00 p.m. EST.

ADDRESSES: Meeting to take place by telephone.

FOR FURTHER INFORMATION CONTACT: Brian Walch, (202) 376-8371, publicaffairs@usccr.gov.

SUPPLEMENTARY INFORMATION: This business meeting is open to the public by telephone only. Participant Access Instructions: Dial in 5-10 minutes prior to the start time using the phone number and Conference Passcode below.

Listen Only, Toll Free: 1 (888) 318-7469; Conference ID: 897-2138.

Persons with hearing impairments: Please contact the above about how to access the Federal Relay Service for the meeting.

Meeting Agenda

I. Approval of Agenda

II. Program Planning

• Vote on November 13th as Commission Business Meeting

• Vote on 2017 Statutory Enforcement Report “Targeted Fines and Fees against Low-Income Communities of Color: Civil Rights and Constitutional Implications.”

V. Adjourn Meeting.

Dated: June 20, 2017,
Brian Walch,
Director of Communications and Public Engagement.

[FR Doc. 2017-13244 Filed 6-21-17; 11:15 am]

BILLING CODE 6335-01-P